DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Coral Reef Ecosystems Permit Forms.

OMB Control Number: 0648-0463.

Form Number(s): NA.

Type of Request: Regular submission (revision and extension of a current information collection).

Number of Respondents: 12.

Average Hours per Response: Coral Reef Ecosystem permits, 2 hours; appeals, 3 hours; transshipment permits, 10 minutes.

Burden Hours: 31.

Needs and Uses: This request is for revision and extension of a current information collection.

National Marine Fisheries Service (NMFS) requires, as codified under 50 CFR Part 665, any person (1) fishing for, taking, retaining, or using a vessel to fish for Western Pacific coral reef ecosystem management unit species in the designated low-use Marine Protected Areas, (2) fishing for any of these species using gear not specifically allowed in the regulations, or (3) fishing for, taking, or retaining any Potentially Harvested Coral Reef Taxa (PHCRT) in the coral reef ecosystem regulatory area, to obtain and carry a permit. A receiving vessel must also have a transshipment permit for at-sea transshipment of coral reef ecosystem management unit species (CREMUS). The permit application form provides basic information about the permit applicant, vessel, fishing gear and method, target species, projected fishing effort, etc., for use by NMFS and the Western Pacific Fishery Management Council in determining eligibility for permit issuance. The information is important for understanding the nature of the fishery and provides a link to participants. It also aids in the enforcement of Fishery Ecosystem Plan measures.

Revision: NMFS is adding a transshipment permit application, where previously a separate form was not required.

Affected Public: Business or other for-profit organizations.

Frequency: Annually and on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 30, 2012.
Gwellnar Banks,
Management Analyst, Office of the Chief Information Officer.

[FR Doc. 2012-19060 Filed 8-3-12; 8:45 am]

BILLING CODE 3510-22-P